DEPARTMENT OF ENERGY

10 CFR Part 430

[EERE-2017-BT-STD-0019]

RIN 1904-AF65

Energy Conservation Program: Energy Conservation Standards for Consumer Gas-Fired Instantaneous Water Heaters

AGENCY: Office of Energy Efficiency and Renewable Energy, Department of Energy (DOE).

ACTION: Final rule; delay of effective date.

SUMMARY: This document further delays the effective date of a recently published final rule amending the energy conservation standards for gas-fired instantaneous water heaters.

DATES: As of March 20, 2025, the effective date of the rule amending 10 CFR part 430 published at 89 FR 105188 on December 26, 2024, is delayed until May 20, 2025.

FOR FURTHER INFORMATION CONTACT: Ms. Julia Hegarty, U.S. Department of Energy, Office of Energy Efficiency and Renewable Energy, Building Technologies Office, EE-5B, 1000 Independence Avenue SW, Washington, DC 20585-0121. Telephone: (240) 597-6737 Email: ApplianceStandardsQuestions@ee.doe.gov.

Mr. Uchechukwu “Emeka” Eze, U.S. Department of Energy, Office of the General Counsel, GC-33, 1000 Independence Avenue SW, Washington, DC 20585-0121. Telephone: (202) 586-4798. Email: uchechukwu.eze@hq.doe.gov.

SUPPLEMENTARY INFORMATION: On January 20, 2025, President Trump issued the “Regulatory Freeze Pending Review” memorandum, published in the Federal Register on January 28, 2025 (90 FR 8249). The Presidential Memorandum ordered all executive departments and agencies to consider postponing for 60-days the effective date of certain rules published in the Federal Register for the purpose of reviewing any questions of fact, law, and policy that the rules may raise. Additionally, executive departments and agencies were to consider opening a comment period to allow interested parties to provide comments about issues of fact, law, and policy raised by the rules postponed under the memorandum.

Consistent with the Presidential Memorandum of January 20, 2025, the U.S. Department of Energy (“DOE”) delayed the effective date of the final rule amending energy conservation standards for gas-fired instantaneous water heaters published in the Federal Register on December 26, 2024, to March 21, 2025. 90 FR 9951 (Feb. 20, 2025). DOE also sought comment on any further delay of the effective date, including the impacts of such delay, as well as comment on the legal, factual, or policy issues raised by the rule. DOE received several comments from stakeholders related to the legal, factual, and policy issues raised by the final rule.

DOE is still in the process of reviewing questions of fact, law, and policy for this rule and comment received on the rule. As such, and consistent with the Presidential Memorandum of January 20, 2025, DOE further delays the effective date of this rule another 60-days to May 20, 2025.

To the extent that 5 U.S.C. 553 applies to this action, it is exempt from notice and comment because it constitutes a rule of procedure under 5 U.S.C. 553(b)(A) for which no notice or hearing is required by statute. Further, the delay of the effective date to May 20, 2025, does not affect the compliance date for this rule, which remains December 26, 2029. As such, this action is not a “substantive rule” for which a 30-day delay in effective date is required under 5 U.S.C. 553(d).

Signing Authority

This document of the Department of Energy was signed on March 13, 2025, by Lou Hrkman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 13, 2025.
Treena V. Garrett,
Federal Register Liaison Officer, U.S. Department of Energy.

[FR Doc. 2025-04475 Filed 3-19-25; 8:45 am]

BILLING CODE 6450-01-P